LEGAL SERVICES CORPORATION

Sunshine Act Meeting of the Board of Directors Search Committee for LSC President and Inspector General

TIME AND DATE: The Search Committee for LSC President and Inspector General of the Legal Services Corporation's Board of Directors will meet on August 6, 2003 The meeting will begin at 2 p.m. and continue until conclusion of the Committee's agenda.

LOCATION: 3333 K Street, NW., Washington, DC, Room 4214.

STATUS OF MEETING: Open, except that a portion of the meeting may be closed pursuant to a vote of the Board of Directors to hold an executive session. The closing is authorized by the relevant provisions of the Government in the Sunshine Act [5 U.S.C. 552b(c)(2), (4) & (6)] and the corresponding provisions of the Legal Services Corporation's implementing regulation [45 CFR 1622.5(a), (c) & (e)]. A copy of the General Counsel's Certification that the closing is authorized by law will be available upon request.

MATTERS TO BE CONSIDERED:

Open Session

1. Approval of agenda.

2. Consider and act on proposed time line for the selection process.

3. Public Comment.

4. Consider and act on other business.

Closed Session

5. Review request for proposals from selected search firms.

6. Consider and act on selecting a search firm to conduct a search for an LSC President and Inspector General.

Open Session

7. Consider and act on adjournment of meeting.

FOR FURTHER INFORMATION CONTACT: Victor M. Fortuno, Vice President for Legal Affairs, General Counsel and Corporate Secretary, at (202) 295-1500.

SPECIAL NEEDS: Upon request, meeting notices will be made available in alternate formats to accommodate visual and hearing impairments. Individuals who have a disability and need an accommodation to attend the meeting may notify Patricia Batie at (202) 295-1500.

Dated: July 29, 2003.
Victor M. Fortuno,
Vice President for Legal Affairs, General Counsel, and Corporate Secretary.

[FR Doc. 03-19667 Filed 7-29-03; 4:06 pm]

BILLING CODE 7050-01-P